Title 3—

The President

Proclamation 10997 of December 15, 2025

Bill of Rights Day, 2025

By the President of the United States of America

A Proclamation

Two hundred and fifty years ago, our Nation was conceived in liberty, our freedom was wrested from the hands of tyranny, and our people courageously united as one Nation under God, committed to the immortal principles of sovereignty, justice, and self-determination. Today, we proudly celebrate the ratification of our Bill of Rights—the revolutionary document that enshrines in law the principles of freedom, human dignity, and due process upon which the United States was founded. On this Bill of Rights Day, we proudly carry forth the bold vision of our Founding Fathers. We recommit to the timeless freedoms enshrined in the Bill of Rights, and we vow to always preserve, protect, and defend our God-given rights, our glorious American heritage, and our constitutional way of life.

Following the Revolutionary War, the framers of our Constitution set aside 10 core protections from government authority that would ultimately become known as the “Bill of Rights.” After decades of oppression under British rule, James Madison—the Father of the Constitution—came to understand that it was necessary to clearly define what freedoms the law protected, setting the stage for the triumph of true self-government. Though Madison was once concerned that a written bill of rights would not succeed in fending off forces of tyranny and oppression, his friend Thomas Jefferson later convinced him: “A bill of rights is what the people are entitled to against every government on earth, general or particular, and what no just government should refuse or rest on inference.”

In 1789, the First United States Congress drafted the first 10 amendments to the Constitution and later sent them to the States to ratify. In doing so, the States forever secured a series of freedoms that no tyrant could ever infringe—including the rights to speak and worship freely, to keep and bear arms, to resist unlawful arrest and seizure of private property, to be assured of a quick and fair trial, and to be protected against cruel and unusual punishment—and affirmed that the States hold all powers not granted to the Federal Government.

More than two centuries later, these foundational legal principles remain the lifeblood of our Republic and continue to stand at the heart of our laws, our system of government, and our livelihood. Our framers understood that codifying our rights in ink alone would not be sufficient and that our rights depended on the endurance of bedrock American principles like the separation of powers, due process, checks and balances, and States' rights. Above all, however, they knew that our rights would forever rely on a good and moral citizenry committed to the virtues that gave rise to our Republic and have sustained our liberty through victory and defeat, triumphs and setbacks, and times of peace and war since July 4, 1776.

Every day, my Administration is acting with strength and conviction to guard these freedoms, the meaning of American citizenship, and our constitutional heritage. We are restoring the rule of law, fighting back against left-wing lawfare, cleaning up our corrupt bureaucracies and draining the swamp, and forever ensuring that the American people do not answer to Washington, Washington answers to the American people.

As we approach 250 glorious years of American independence next year, we proudly carry forward the legacy forged by our Founders in the crucible of revolution. We renew our commitment to always upholding the common good and the dignity of the human person—and above all, we pledge to preserve the promise of a proud, free, self-governing Republic for ourselves and our posterity.

NOW, THEREFORE, I, DONALD J. TRUMP, President of the United States of America, by virtue of the authority vested in me by the Constitution and the laws of the United States, do hereby proclaim December 15, 2025, as Bill of Rights Day. I call upon the people of the United States, especially teachers, educators, and school administrators, to mark this observance with appropriate ceremonies and activities.

IN WITNESS WHEREOF, I have hereunto set my hand this fifteenth day of December, in the year of our Lord two thousand twenty-five, and of the Independence of the United States of America the two hundred and fiftieth.

[FR Doc. 2025-23416

Filed 12-17-25; 11:15 am]

Billing code 3395-F4-P